DEPARTMENT OF HEALTH AND HUMAN SERVICES

Administration for Children and Families

Delegation of Authority

Notice is hereby given that, under the authority vested in me by the Secretary, Department of Health and Human Services, I have redelegated to the Commissioner, Administration on Children, Youth and Families, with the authority to further redelegate to the Director, Family Youth Services Bureau, the authority to approve/disapprove cooperative research or demonstration projects under Section 1110 of the Social Security Act, and as amended hereafter, when such projects pertain to the abstinence education activities referenced in Public Law 108-447 at Title II, Division F.

This delegation excludes the authority to submit reports to Congress. Further, this delegation shall be exercised under the Department's existing delegation and policy on regulations and under financial and administrative requirements applicable to all Administration for Children and Families authorities. In addition, where all or part of any research or demonstration project is wholly financed with Federal funds made available under section 1110 of the Social Security Act, without any State, local, or other non-Federal financial participation, that project must be approved by the Secretary of Health and Human Services.

I have ratified any actions taken by the Commissioner, Administration on Children, Youth and Families, or any other Administration on Children, Youth and Families officials, which, in effect, involved the exercise of this authority prior to the effective date of this delegation. This delegation was effective on the date of signature.

Dated: January 21, 2005.
Wade F. Horn,
Assistant Secretary for Children and Families.

[FR Doc. 05-1896 Filed 2-1-05; 8:45 am]

BILLING CODE 4184-01-M